DEPARTMENT OF ENERGY

Federal Energy Regulatory Commission

[Project No. 13305-000]

Whitestone Power and Communications; Notice of Preliminary Permit Application Accepted for Filing and Soliciting Comments, Motions To Intervene, and Competing Applications

December 11, 2008.

On October 20, 2008, Whitestone Power and Communications filed an application, pursuant to section 4(f) of the Federal Power Act, proposing to study the feasibility of the Microturbine Hydrokinetic River-In-Stream Energy Conversion Power Project, located in the Tanana River, within the Unorganized Borough, near Delta Junction, Alaska. The project uses no dam or impoundment.

The proposed project would consist of: (1) 1 hydrokinetic turbine generating unit, with a total installed capacity of 25 kilowatts, (2) a proposed 3000-foot-long, 12.47-kilovolt transmission line, and (3) appurtenant facilities. The project is estimated to have an annual generation of 65 megawatt-hours, which would be used by the applicant.

Applicant Contact: Mr. Steven Selvaggio, Whitestone Community Association, Whitestone Power and Communications, PO Box 1630, Delta Junction, Alaska 99737, phone: (907) 895-4938.

FERC Contact: Kelly T. Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13305) in the docket number field to access the document. For assistance, call toll-free 1-866-208-3372.

Kimberly D. Bose,
Secretary.

[FR Doc. E8-29986 Filed 12-17-08; 8:45 am]

BILLING CODE 6717-01-P